POSTAL SERVICE

NCOALink (National Change of Address Linkage System) Product

AGENCY: Postal Service.

ACTION: Notice.

SUMMARY: The United States Postal Service has developed the NCOALink secure dataset product that will enable mailers to update name and address mailing lists with customers' new mailing addresses prior to mailing in a manner which will increase the security of postal customer data and further protect the privacy of this information. This does not represent a change in address policy. Rather, this increases the security of address information. The Postal Service intends, after an appropriate transition period, to replace the current National Change of Address (NCOA) and FASTforward® Mailing List Correction (MLC) licensed products with NCOALink licensed products. At this time the NCOALink technology is not supported on Multiline Optical Character Reader (MLOCR) platforms, therefore there is no impact to the FASTforward® MLOCR licensed service. Beginning July 1, 2003, interested parties may apply for NCOALink product licenses. Effective October 1, 2003, the usage of the NCOALink product will be recognized as an additional method for mailers to meet the USPS Move Update requirements in order to obtain First-Class Mail automation and Presorted discounts.

EFFECTIVE DATE: July 1, 2003.

FOR FURTHER INFORMATION CONTACT: Contact the Move Update Department—NCOALink Group at the Postal Service National Customer Support Center at (800)-589-5766; or John Boyce at (901) 681-4666; or Charles Hunt at (901) 681-4651; or Wayne Orbke at (901) 681-4658.

SUPPLEMENTARY INFORMATION: Mailers will be able to process a mailing list using NCOALink and update the mailing addresses on the list with permanent change-of-address (COA) information using secure data store technology. This technology process results in no human-readable address information being represented within the NCOALink product. Therefore it provides a very high level of security for customer-filed COA information and significantly strengthens the ability of the Postal Service to exercise appropriate oversight of the information. The introduction of NCOALink does not change, in any way, Postal Service policies or usage restrictions regarding change-of-address information. This new product will be available under license from the Postal Service and will be available both to individual mailers and to service bureaus.

This product enables the Postal Service to make available a pre-mailing address correction service in a format that is not a clear text address list, but is instead a mathematical formulation. As a result, mailers can potentially integrate the NCOALink product into their own in-house computer technology and have the ability to update address-specific information for mailings during their business operations.

As with the Postal Service's current NCOA and FASTforward® products, in order for a mailer to obtain updated address information from the NCOALink product, it must already possess names and old addresses that will be matched against it. The NCOALink product, due to the inherently secure data store technology employed, cannot be used to create mailing lists.

Improving the security and quality of mailer address information benefits all parties, including the customer, the mailer and the Postal Service. Customers benefit from the added security of their address information, and the increased accuracy of delivery, so that mail is not delivered to the wrong address. A mailer benefits by managing correct address information for its customers, reducing mailing costs and other significant business costs associated with handling inaccurate address information. The Postal Service benefits from reduced volumes of undeliverable-as-addressed mail and decreased processing and handling costs for such mail. By creating and licensing the NCOALink product for updating mailing lists, the Postal Service is expanding the scope of its ongoing efforts to reduce the volume of undeliverable-as-addressed mail and add security to address information.

Commencing on July 1, 2003, the Postal Service will begin accepting applications for new NCOALink Licensees. To ensure that no service disruption will occur, existing NCOA and FASTforward® MLC licensees will be provided transition periods to migrate to the new NCOALink system. The Postal Service intends to discontinue support for NCOA on September 30, 2004, and FASTforward® MLC on September 30, 2005. The Postal Service may elect to extend these dates. The Postal Service proposes to enter into non-exclusive, annually renewable NCOALink license agreements with approved mailers and service bureaus no earlier than October 1, 2003, or such later date as the Postal Service may designate. Additionally, on July 1, 2003, software developers may apply to be an authorized NCOALink software interface developer. All NCOALink applications may be obtained by writing to: Move Update Department—NCOALink Group, National Customer Support Center, United States Postal Service, 6060 Primacy Parkway Suite 201, Memphis TN 38188-0001.

Categories of NCOALink Product Licensees

The Postal Service will license the NCOALink product in three categories: Full Service Providers, Limited Service Providers, and End-User Mailers. The license fees have been established with the goal of enabling the Postal Service to recover actual and anticipated costs for developing, supporting, and administering the NCOALink product in the marketplace. The categories are described as follows:

1. Full Service Provider

A Full Service Provider is a licensee that uses the NCOALink product to update mailing lists, most of which are owned by unrelated third parties. The Postal Service will require Full Service Providers to also implement service using other Address Quality tools designated by the Postal Service (e.g. Delivery Point Validation, Locatable Address Correction System (LACS)). The Postal Service will provide the Full Service Provider with a forty-eight month NCOALink product COA dataset which will be updated on a weekly basis. A Full Service Provider will pay a $175,000.00 base annual license fee to the Postal Service.

2. Limited Service Provider

A Limited Service Provider is a licensee that uses the NCOALink product for updating either its own mailing lists or mailing lists owned by third parties. The Postal Service will provide the Limited Service Provider with an eighteen month NCOALink product COA dataset which will be updated on a weekly basis. The Limited Service Provider will pay a $15,000.00 base annual license fee to the Postal Service.

3. End-User Mailer

The End-User Mailer is a licensee that uses the NCOALink product to update mailing lists for its own mailings. The End-User Mailer may not update mailing lists for third parties. The Postal Service will provide the End-User Mailer with an eighteen month NCOALink product COA dataset which will be updated on a monthly basis. The End-User Mailer will pay a $7,500.00 base annual license fee to the Postal Service.

The Postal Service may adjust all license fees in all categories after the first year of the license agreement.

NCOALink Product Usage at Multiple Locations (Sites)

In order for any category of licensee to use the NCOALink product at more than one of its sites, the licensee must pay the Postal Service an additional annual site license fee of one-half the base annual license fee for each additional site that they wish to use the NCOALink product.

Existing NCOA and FASTforward® MLC Licensees Transition

The initial licensing term for all categories of the NCOALink product will begin on October 1, 2003 and expire on September 30, 2004.

During the initial licensing term and until the discontinuation of NCOA, which is also on September 30, 2004, NCOA licensees who apply and are authorized, in addition to their NCOA license fees, will pay a transition base annual license fee of $25,000.00 to obtain the NCOALink product for use as a Full Service Provider at one site, plus a transition site license fee of $12,500 for each additional site at which they will use the NCOALink product. After the expiration of the initial NCOALink license term, full license fees set by the Postal Service will be due for the NCOALink product.

Different from NCOA, FASTforward® MLC will be supported an additional year until September 30, 2005. However, the transition licensing fees noted below shall only apply to the initial licensing term of the NCOALink product.

During the initial licensing term, FASTforward® MLC licensees who apply and are authorized to be Limited Service Providers shall, in addition to their FASTforward® MLC fees, pay a transition base annual license fee of $5,000.00 to use the NCOALink product at one site, plus a transition site license fee of $2,500 for each additional site at which they will use the NCOALink product.

During the initial licensing term, FASTforward® MLC licensees who apply and are authorized to be End-User Mailers shall, in addition to their FASTforward® MLC fees, pay a transition base annual license fee of $2,500.00 to use the NCOALink product at one site, plus a transition site license fee of $1,250.00 for each additional site at which they will use the NCOALink product prior to October 1, 2004.

After the expiration of the initial NCOALink license term, full license fees set by the Postal Service will be due for both the NCOALink product and for FASTforward® MLC until its discontinuation the following year.

The Postal Service will treat existing NCOA and FASTforward® MLC licensees that do not apply for NCOALink product licenses prior to September 30, 2004, as new applicants for the NCOALink product. The Postal Service will require these applicants to pay the same license fees and satisfy the same application requirements as other new applicants. Accordingly, the license fees described above that are effective during the transition period will not be available to these existing NCOA and FASTforward® MLC licensees.

The above transition examples illustrate how license fees would be handled when a current licensee applies for an NCOALink category that is the equivalent to its current licensee status. However, current NCOA and FASTforward® MLC licensees may apply for any license category which they may be qualified for and if approved, by paying the applicable new license fee. Detailed qualification criteria for each category of NCOALink licensee is available from the Move Update Department—NCOALink Group, National Customer Support Center at (800) 589-5766.

Authorized NCOALink Software Interface Developer

Software developers may apply to provide NCOALink interface software products to the mailing industry. If approved and after the execution of an NCOALink developer's license agreement along with the receipt of an initial year $5,000.00 license fee, the Postal Service will provide the interface developer with a Software Developer's Kit (SDK) to be used in accordance with the terms and conditions set forth in the license agreement. The license fee includes testing and certification of a single platform. Additional platform certifications or any subsequent testing due to performance failures noted during the testing will be assessed at an additional $1,000.00 fee. After the NCOALink interface software has been tested and approved by the Postal Service it will be officially certified for the specific software platform tested. In subsequent years the developer's license may be renewed for a $1,000.00 fee which includes testing and certification of a single platform. Additional platform certifications or any subsequent testing due to performance failures noted during the testing will continue to be assessed at an additional $1,000.00 fee. The Postal Service must certify the interface developer's NCOALink software before the interface developer may use, sell, or permit third parties to use the program.

Commercial Sale of NCOALink Interface Software

Software developers must execute a separate commercial sale license agreement with the Postal Service in order to market its NCOALink software to any third parties. This license authorizes sales and/or distribution activity of the developer's NCOALink software interface for a period of one year for an annual license fee of $25,000.00. This fee provides unlimited distribution to Postal Service authorized NCOALink applicants and/or licensees within the terms and conditions of the license agreement. An interface developer that has performed in accordance with the license agreement may re-apply to sell its NCOALink software for additional one-year terms at the applicable license fee and terms set by the Postal Service. An interface developer must advise its potential customers that its NCOALink software cannot be used by a party who is not or cannot be licensed by the Postal Service to use the NCOALink product.

Stanley F. Mires,
Chief Counsel, Legislative.

[FR Doc. 03-16596 Filed 6-30-03; 8:45 am]

BILLING CODE 7710-12-U